DEPARTMENT OF TRANSPORTATION

Federal Aviation Administration

14 CFR Part 71

[Docket No. FAA-2006-24391; Airspace Docket No. 06-ASO-5]

Removal of Class D and E Airspace; Roosevelt Roads, PR Amendment of Class E Airspace; Isla de Vieques, PR

AGENCY: Federal Aviation Administration (FAA), DOT.

ACTION: Final rule.

SUMMARY: This action will remove the Class D and E airspace at Roosevelt Roads, PR, and amend the Class E airspace at Isla de Vieques, PR. The Roosevelt Roads Naval Station, Ofstie Field, PR, is permanently closed and no longer operational. The closure necessitates the removal of Class D and E airspace. The removal of Class E airspace at Roosevelt Roads, PR, requires the amendment of Class E airspace at Isla de Vieques, PR, since it is included as part of the Roosevelt Roads, PR, Class E airspace.

DATES: Effective Date: 0901 UTC, August 3, 2006.

FOR FURTHER INFORMATION CONTACT: Mark D. Ward, Manager, Airspace and Procedures Branch, Air Traffic Division, Federal Aviation Administration, P.O. Box 20636, Atlanta, Georgia 30320; telephone (404) 305-5586.

SUPPLEMENTARY INFORMATION:

History

On January 17, 2003, the Roosevelt Roads Naval Station, Ofstie Field, PR, was permanently closed and airport operations terminated. The closure, therefore, requires the removal of Class D and E5 airspace. Since the Isla de Vieques, PR, Class E5 airspace is included as part of the Roosevelt Roads, PR Class E5 airspace, the Isla de Vieques, PR, Class E5 airspace requires an amendment. This rule becomes effective on the date specified in the “Effective Date” section. Since this action eliminates the impact of controlled airspace on users of airspace in the vicinity of Roosevelt Roads, PR, notice and public procedure under 5 U.S.C. 553(b) are not necessary. Designations for Class D airspace and Class E airspace areas extending upward from 700 feet or more above the surface of the earth are published in paragraphs 5000 and 6005 respectively of FAA Order 7400.9N, dated September 1, 2005, and effective September 16, 2005, which is incorporated by reference in 14 CFR 71.1. The Class D and Class E airspace designations listed in this document will be published subsequently in the Order.

The Rule

This amendment to part 71 of the Federal Aviation Regulations (14 CFR part 71) removes Class D and Class E5 airspace at Roosevelt Roads, PR, and amends Class E5 airspace at Isla de Vieques, PR.

The FAA has determined that this regulation only involves an established body of technical regulations for which frequent and routine amendments are necessary to keep them operationally current. It, therefore, (1) is not a“significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D AND CLASS E AIRSPACE AREAS; AIRWAYS; ROUTES; AND REPORTING POINTS

1. The authority citation for 14 CFR part 71 continues to read as follows:

Authority: 49 U.S.C. 106(g); 40103, 40113, 40120; EO 10854, 24 FR 9565 3 CFR, 1959-1963 Comp., p. 389; 14 CFR 11.69.

§ 71.1 [Amended]

2. The incorporation by reference in 14 CFR 71.1 of Federal Aviation Administration Order 7400.9N, Airspace Designations and Reporting Points, dated September 1, 2005, and effective September 16, 2005, is amended as follows:

Paragraph 5000 Class D airspace.

* * * * *

ASO PR D Roosevelt Roads, PR [Remove]

* * * * *

Paragraph 6005 Class E airspace areas extending upward from 700 feet or more above the surface of the earth.

* * * * *

ASO PR E5 Roosevelt Roads, PR [Remove]

* * * * *

ASO PR E5 Isla de Vieques, PR [Revised]

Antonio Rivera Rodriquez Airport, PR

Lat. 18°08′05″ N, long. 65°29′37″ W)

That airspace extending upward from 700 feet or more above the surface of the earth within a 6.5-mile radius of Antonio Rivera Rodriquez Airport.

* * * * *

Issued in College Park, Georgia, on May 31, 2006.
Mark D. Ward
Acting Area Director, Air Traffic Division, Southern Region.

[FR Doc. 06-5184 Filed 6-6-06; 8:45am]

BILLING CODE 4910-13-M